FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

ARC Global Logistics, Inc., 7370 NW 36 Street, Suite 319K, Miami, FL 33166, Officers: Rafael Perez, Secretary(Qualifying Individual), Christian Vucens, President

ACD Global Services, Inc., 1521 Northwest 82 Avenue, Miami, FL 33126, Officer: Maria Flores, President (Qualifying Individual)

Farenco Development Co., Ltd., One World Trade Center, Suite 2207, New York, NY 10048, Officers: Hanguang (Bright) Wang, CEO(Qualifying Individual), Lena Yu, President

ANG Bilis Bilis Air Cargo, Inc., dba Abacus Freight Forwarders, 2161 Colorado Blvd., Suite #208, Los Angeles, CA 90041, Officers: Charity T. De Asis, Secretary (Qualifying Individual), Lenny Jose V. Gonzales, President

Unicorn Shipping Line, Inc., 14028 Tahiti Way, #409, Marina Del Ray, CA 90292, Officer: Jie Liu, President(Qualifying Individual)

Non-Vessel Operating Common Carrier and Ocean Freight Forwarder Transportation Intermediary Applicants

Universe Freight Brokers, Inc., dba Seacarriers, 1620 NW. 82nd Avenue, Miami, FL 33126, Officer: Muricio Restrepo, President(Qualifying Individual)

TFS Freight International, Inc., 8901 S. LaCienega Blvd., Suite 207, Inglewood, CA 90301, Officers: Shally Liang, Secretary(Qualifying Individual), Victor Kuo, President

Worldwide Trade Logistics, Inc., 156-15 146 Avenue, Room 210, Jamaica, NY 11434, Officers: Raymond Fok, Vice President(Qualifying Individual), Lewis L. Liu, President

Braverman Enterprises, Inc., dba Customs Brokers International, 5777 W. Century Blvd., Ste. 535, Los Angeles, CA 90045, Officers: Carmen C. Braverman, President(Qualifying Individual), Robert A. Snyder, Vice President

Ocean Freight Forwarder—Ocean Transportation Intermediary Applicant

Eagle Pacific, Corp., 182-16 149th Road, Rm. #288, Jamaica, NY 11413, Officers: Luyin (Grace) Zhang, President(Qualifying Individual)

Dated: June 22, 2001.
Bryant L. VanBrakle,
Secretary.

[FR Doc. 01-16177 Filed 6-26-01; 8:45 am]

BILLING CODE 6730-01-P